DEPARTMENT OF ENERGY

Office of Environmental Management; Environmental Management Site-Specific Advisory Board; Notice of Renewal

Pursuant to Section 14(a)(2)(A) of the Federal Advisory Committee Act (Pub. L. No. 92-463), and in accordance with Title 41 of the Code of Federal Regulations, section 102-3.65(a), and following consultation with the Committee Management Secretariat, General Services Administration, notice is hereby given that the Environmental Management Site-Specific Advisory Board has been renewed for a two-year period beginning April 11, 2008. The Environmental Management Site-Specific Advisory Board provides advice and recommendations to the Assistant Secretary for Environmental Management.

The Board provides the Assistant Secretary for Environmental Management (EM) with information, advice, and recommendations concerning issues affecting the EM program at various sites. These site-specific issues include: Clean-up standards and environmental restoration; waste management and disposition; stabilization and disposition of non-stockpile nuclear materials; excess facilities; future land use and long-term stewardship; risk assessment and management; and clean-up science and technology activities.

Furthermore, the renewal of the Environmental Management Site-Specific Advisory Board has been determined to be essential to conduct Department of Energy business and to be in the public interest in connection with the performance of duties imposed on the Department of Energy by law and agreement. The Board will operate in accordance with the provisions of the Federal Advisory Committee Act, and rules and regulations issued in implementation of that Act.

Further information regarding this Advisory Board may be obtained from Mr. Doug Frost, Designated Federal Officer, at (202) 586-5619.

Issued in Washington, DC on April 11, 2008.
Carol A. Matthews,
Acting Committee Management Officer.

[FR Doc. E8-8181 Filed 4-15-08; 8:45 am]

BILLING CODE 6450-01-P